DEPARTMENT OF COMMERCE

National Oceanic and Atmospheric Administration

RIN 0648-XC549

Fisheries of the Caribbean, Gulf of Mexico, and South Atlantic; Reef Fish Fishery of Puerto Rico and the U.S. Virgin Islands; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Puerto Rico's Department of Natural and Environmental Resources (PR DNER). If granted, the EFP would authorize the PR DNER to harvest reef fish by hook-and-line gear at 10 stations off the west coast and 1 station off the east coast of Puerto Rico in Federal waters. All reef fish caught during the duration of the EFP, including undersized and seasonally prohibited reef fish species, would be retained, except for goliath grouper, Nassau grouper, and any parrotfish species. The purpose of the exempted fishing activities is to obtain additional life history information for the Caribbean Fishery Management Council (Council) and NMFS to use when making future management decisions for Caribbean reef fish.

DATES: Comments must be received no later than July 22, 2013.

ADDRESSES: You may submit comments on the application, identified by RIN 0648-XC549, by any of the following methods:

• Email: Britni.Tokotch@noaa.gov. Include in the subject line of the email comment the following document identifier: “PR DNER_EFP 2013”.

• Mail: Britni Tokotch, Southeast Regional Office, NMFS, 263 13th Avenue South, St. Petersburg, FL 33701.

The application and related documents are available for review upon written request to any of the above addresses.

FOR FURTHER INFORMATION CONTACT: Britni Tokotch, 727-824-5305; email: Britni.Tokotch@noaa.gov.

SUPPLEMENTARY INFORMATION: The EFP is requested under the authority of the Magnuson-Stevens Fishery Conservation and Management Act (16 U.S.C. 1801 et seq.), and regulations at 50 CFR 600.745(b) concerning exempted fishing.

The proposed collection for scientific research involves activities that would otherwise be prohibited by regulations at 50 CFR part 622, as they pertain to Caribbean reef fish managed by the Council and NMFS. The EFP would exempt this research activity from Federal regulations at § 622.435(a) (Seasonal and area closures), § 622.436 (Size limits), and § 622.437 (Bag limits).

This action involves activities covered by regulations implementing the Fishery Management Plan for the Reef Fish Fishery of Puerto Rico and the U.S. Virgin Islands (FMP). Specimens would be collected in Federal waters off the west and east coasts of Puerto Rico aboard research vessels owned by the PR DNER and operated by two commercial fishermen under contract with PR DNER. Each research vessel's home port is located in Puerto Rico. Samples would be collected from the issuance of the EFP through December 31, 2015.

The purpose of the exempted fishing activities is to determine the spatial and temporal variations in stock abundance of Caribbean reef fish resources off Puerto Rico. Currently, fisheries-dependent data in the Caribbean are limited; therefore, additional fisheries-independent data are needed to more accurately describe the status of the Caribbean reef fish fishery. Additional life history information would be provided to the Council and NMFS to use when making future management decisions for Caribbean reef fish. Samples would be collected from the issuance of the EFP through December 31, 2015.

The study would consist of harvesting reef fish at 10 stations off the west coast and 1 station off the east coast of Puerto Rico in Federal waters. The majority of sampling would occur in depths to 50 fathoms. During sampling trips, the survey vessels would be drifting and would not be required to anchor. All reef fish caught during the duration of the EFP, including undersized and seasonally prohibited species, would be retained except goliath grouper, Nassau grouper, and any parrotfish species.

The EFP would allow the following estimated number of reef fish to be harvested from Puerto Rico's Federal waters: Vermilion snapper (in Snapper Unit 1)—40 lb, (18 kg), round weight; gray, lane, mutton, dog, and schoolmaster snappers (in Snapper Unit 3)—8,030 lb (3,642 kg), round weight; yellowtail snapper (in Snapper Unit 4)—480 lb (218 kg), round weight; red hind, coney, and graysby (in Grouper Unit 3)—240 lb (109 kg), round weight; yellowfin, red, tiger, and black groupers (in Grouper Unit 4)—100 lb (45 kg), round weight.

The sampling area would be divided into quadrats measuring two square nautical miles. Each quadrat would be sampled twice during the period of the EFP. Sampling station and date of sample would be randomly selected and may also vary according to weather and sampling logistics. Within each sampling quadrat, fishing would be conducted using hook-and-line gear with fish hooks #06, sinker units (weights), and squid as bait. Three lines would be used for sampling, with each line having three hooks. The quadrats would be sampled for up to 4 hours during each trip with each fishing line having a soak time of approximately 10 to 15 minutes. For each trip, the following data would be recorded: Date; time of vessel departure and arrival at dock; quadrat code (latitude and longitude); fishing time (soak time) for hook-and-line gear to the nearest 15 minutes; weather conditions; water depth; total number of fish caught per vessel; identification, number, weight, length, and reproductive condition of fish; and substrate type (when possible). After sampling is complete, the fish collected would be donated to the Puerto Rico Zoo to be used as animal feed.

NMFS finds this application warrants further consideration. Possible conditions the agency may impose on this permit, if it is indeed granted, include but are not limited to, a prohibition of conducting research within marine protected areas or marine sanctuaries, without additional authorization. A report on the research would be due at the end of the collection period, to be submitted to NMFS and reviewed by the Council.

A final decision on issuance of the EFP will depend on NMFS' review of public comments received on the application, consultations with appropriate fishery management agencies of the affected states, the Council, and the U.S. Coast Guard, as well as a determination that it is consistent with all applicable laws.

Authority: 16 U.S.C. 1801 et seq.

Dated: June 17, 2013.
Kelly Denit,
Acting Deputy Director, Office of Sustainable Fisheries, National Marine Fisheries Service.

[FR Doc. 2013-14750 Filed 6-19-13; 8:45 am]

BILLING CODE 3510-22-P